ARCHITECTURAL AND TRANSPORTATION BARRIERS COMPLIANCE BOARD

36 CFR Part 1195

[Docket No. ATBCB-2012-0003]

RIN 3014-AA40

Medical Diagnostic Equipment Accessibility Standards Advisory Committee

AGENCY: Architectural and Transportation Barriers Compliance Board.

ACTION: Notice of advisory committee meeting.

SUMMARY: The Medical Diagnostic Equipment Accessibility Standards Advisory Committee will hold its seventh meeting. On July 5, 2012, the Architectural and Transportation Barriers Compliance Board (Access Board) established the advisory committee to make recommendations to the Board on matters associated with comments received and responses to questions included in a previously published Notice of Proposed Rulemaking (NPRM) on Medical Diagnostic Equipment Accessibility Standards.

DATES: The Committee will meet on June 17, 2013, from 1:00 p.m. to 4:30 p.m.

ADDRESSES: The meeting will be held by teleconference. Call-in information and a communication access real-time translation (CART) web streaming link will be posted on the Access Board's Medical Diagnostic Equipment Web site page at www.access-board.gov/medical-equipment.htm.

FOR FURTHER INFORMATION CONTACT: Rex Pace, Office of Technical and Information Services, Architectural and Transportation Barriers Compliance Board, 1331 F Street NW., suite 1000, Washington, DC 20004-1111. Telephone number (202) 272-0023 (Voice); (202) 272-0052 (TTY). Electronic mail address: pace@access-board.gov.

SUPPLEMENTARY INFORMATION:

On July 5, 2012, the Architectural and Transportation Barriers Compliance Board (Access Board) established an advisory committee to make recommendations to the Board on matters associated with comments received and responses to questions included in a previously published NPRM on Medical Diagnostic Equipment Accessibility Standards. See 77 FR 6916 (February 9, 2012). The NPRM and information related to the proposed standards are available on the Access Board's Web site at: http://www.access-board.gov/medical-equipment.htm.

The advisory committee will hold its seventh meeting on June 17, 2013. The agenda includes the following:

• Review of previous committee work;

• Review and discussion the committee's final report; and

• Discussion of administrative issues.

The preliminary meeting agenda, along with information about the committee, is available at the Access Board's Web site (http://www.access-board.gov/medical-equipment.htm).

Committee meetings are open to the public and interested persons can attend the teleconference and communicate their views. Members of the public will have opportunities to address the committee on issues of interest to them during a public comment period.

The meeting will be accessible to persons with disabilities. Communication Access Realtime Translation (CART) will be provided via a web link. Also, persons wishing to provide handouts or other written information to the committee are requested to provide electronic formats to Rex Pace via email prior to the meetings so that alternate formats can be distributed to committee members.

David M. Capozzi,
Executive Director.

[FR Doc. 2013-12943 Filed 5-30-13; 8:45 am]

BILLING CODE 8150-01-P